NUCLEAR REGULATORY COMMISSION

[Docket No. EA-18-130; NRC-2019-0232]

In the Matter of Southern Nuclear Operating Company

AGENCY: Nuclear Regulatory Commission.

ACTION: Confirmatory Order; issuance.

SUMMARY: The U.S. Nuclear Regulatory Commission (NRC) is issuing a Confirmatory Order to Southern Nuclear Operating Company (SNC). This action is based on two investigations conducted by the NRC Office of Investigations (OI), that apparent willful violations of NRC's regulations regarding “Employee Protection,” occurred. Specifically, two contract employees at Vogtle Units 3 and 4 were terminated from employment in 2016 and 2017, respectively. The NRC determined that these terminations were, in part, because the contract employees engaged in protected activity. An ADR mediation session was held on August 5, 2019, with SNC, and a preliminary settlement agreement was reached. Subsequently, SNC consented to the specific actions listed in section V of the Confirmatory Order and the NRC agrees to no pursue any further enforcement action in connection with this apparent violation. The Confirmatory Order becomes effective upon issuance.

DATES: The Confirmatory Order containing the agreements made between SNC and the NRC was issued on November 20, 2019.

ADDRESSES: Please refer to Docket ID NRC-2019-0232 when contacting the NRC about the availability of information regarding this document. You may obtain publicly-available information related to this document using any of the following methods:

• Federal Rulemaking Website: Go to https://www.regulations.gov/ and search for Docket ID NRC-2019-0232. Address questions about NRC docket IDs in Regulations.gov to Jennifer Borges; telephone: 301-287-9127; email: Jennifer.Borges@nrc.gov. For technical questions, contact the individual listed in the FOR FURTHER INFORMATION CONTACT section of this document.

• NRC's Agencywide Documents Access and Management System (ADAMS): You may obtain publicly-available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to pdr.resource@nrc.gov. The Confirmatory Order is available in ADAMS under Accession No. ML19269C005.

• NRC's PDR: You may examine and purchase copies of public documents at the NRC's PDR, Room O1-F21, One White Flint North, 11555 Rockville Pike, Rockville, Maryland 20852.

FOR FURTHER INFORMATION CONTACT: Catherine Thompson, Office of Enforcement, U.S. Nuclear Regulatory Commission, Washington, DC 20555-0001; telephone: 301-287-9515, email: Catherine.Thompson@nrc.gov.

SUPPLEMENTARY INFORMATION: The text of the Confirmatory Order is attached.

Dated at Rockville, Maryland, this 21st day of November 2019.
For the Nuclear Regulatory Commission.
George A. Wilson,
Director, Office of Enforcement.

Attachment—Confirmatory Order Prohibiting Involvement in NRC-Licensed Activities

United States of America

Nuclear Regulatory Commission

In the Matter of Southern Nuclear Operating Company; Vogtle Electric Generating Plant, Units 3 and 4

Docket No.: 5200025, 5200026; License No.: NPF-91, NPF-92; EA-18-130 and EA-18-171

Confirmatory Order Modifying License

Effective Upon Issuance

I

Southern Nuclear Operating Company (SNC or Licensee) is the holder of License Nos. NPF-2, NPF-8, DPR-57, NPF-5, NPF-68, NPF-81, and Combined Licenses NPF-91 and NPF-92, issued by the U.S. Nuclear Regulatory Commission (NRC or Commission) pursuant to Part 50 and Part 52 of Title 10 of the Code of Federal Regulations (10 CFR). The licenses authorize the operation of the Joseph M. Farley, Nuclear Plant Units 1 and 2, the Edwin I. Hatch Nuclear Plant, Units 1 and 2, the Vogtle Electric Generating Plant, Units 1 and 2, and the combined construction and operation of Vogtle Electric Generating Plant, Units 3 and 4 (Vogtle), in accordance with conditions specified therein. These facilities are located in Columbia, Alabama; Baxley, Georgia; and Waynesboro, Georgia, respectively.

This Confirmatory Order (CO) is the result of an agreement reached during an Alternative Dispute Resolution (ADR) mediation session conducted on August 5, 2019 in Rockville, Maryland to address two apparent violations. The NRC and SNC agree to disagree as to whether the violations occurred.

II

On February 13, 2018, the NRC, Office of Investigations (OI), issued a report (2-2017-004) related to SNC Vogtle Units 3 and 4, currently under construction. Based on the evidence developed during its investigation, the NRC identified an apparent violation of 10 CFR 52.5, “Employee Protection,” and determined that the apparent violation of 10 CFR 52.5 was willful. The NRC determined that SNC directed a contract employee at the Vogtle Units 3 and 4 construction site be removed in December 2015, in part, for engaging in protected activity. The contract employee was subsequently terminated by his employer on February 3, 2016. By letter dated May 15, 2019, the NRC notified SNC of the results of the investigation with an opportunity to: (1) Attend a predecisional enforcement conference or (2) participate in an ADR mediation session in an effort to resolve this concern.

On November 20, 2018, the NRC, Office of Investigations (OI), issued a report (2-2017-032) related to SNC, Vogtle Units 3 and 4, currently under construction. Based on the evidence developed during its investigation, the NRC identified an apparent violation of 10 CFR 52.5, “Employee Protection,” and determined that the apparent violation of 10 CFR 52.5 was willful. The NRC determined that a contract employee was removed from the site by an SNC official on July 13, 2017, in part, for engaging in protected activity when he was employed by a different contractor on the site from 2014-2015. The contract employee was subsequently terminated by his employer on July 14, 2017. By letter dated June 12, 2019, the NRC notified SNC of the results of the investigation with an opportunity to: (1) Attend a predecisional enforcement conference or (2) participate in an ADR mediation session in an effort to resolve this concern.

In response to the NRC's offers, SNC requested the use of the NRC's ADR process. In recognition of the substantially similar broad corrective actions expected from the two cases, the NRC and SNC agreed to include both cases in this mediation. On August 5, 2019 the NRC and SNC met in an ADR session mediated by a professional mediator, arranged through Cornell University's Institute on Conflict Resolution. The ADR process is one in which a neutral mediator, with no decision-making authority, assists the parties in their attempt to reach an agreement on resolving any differences regarding the dispute. This Confirmatory Order is issued pursuant to the agreement reached during the August 5, 2019 mediation.

III

During the ADR mediation session, SNC and the NRC reached a preliminary settlement agreement. The elements of the agreement included: (1) Corrective actions that SNC has already completed to improve the nuclear safety culture (NSC) and safety conscious work environment (SCWE) at the site (provided to the NRC at the August 5, 2019 ADR mediation session); (2) agreed upon future actions; and (3) general provisions.

Previously Completed Corrective Actions

1. Implemented the One Project Employee Concerns Program (One Project ECP):

a. Consolidated all individuals on the construction site under the One Project ECP. SNC's One Project ECP manages the intake of all construction concerns, investigations, referrals when necessary and tracking of associated corrective actions.

b. Expanded the scope of the One Project ECP. One Project ECP reviews a range of concerns broader than those explicitly described as nuclear safety concerns. This builds trust with the construction site population, as well as helps identify issues that might not appear to be nuclear safety concerns but either become nuclear safety concerns or have some tie to a nuclear safety concern.

c. One Project ECP has expanded ECP staff to have representatives available for at least 3 hours during the night shift.

2. Implemented a single project-wide Corrective Action Program which provides for SNC ownership of all Corrective Action Program activities on the project.

3. Implemented a Discipline Review Process for construction contractors to require review of certain terminations for potential SCWE issues. Additional oversight by SNC HR of Contractors' implementation of the Discipline Review Process was added in December 2018 as a result of CR# 50009752.

4. Enhanced the presence and visibility of ECP in the field. SNC ECP provides SCWE training to contractor employees during onboarding. ECP personnel spend time in the field, handing out cards, discussing the program and locations, assessing SCWE knowledge, and educating when necessary.

5. Project and Leadership Reset conducted on July 25, 2018, with the expectation that employees, contractors and leaders on the Vogtle 3 and 4 project site read and sign a “Recommitment to Project Expectations” and “Recommitment to Leadership Expectations,” respectively, which included “My behaviors will demonstrate and support a strong nuclear safety culture and an environment for raising concerns.”

6. SNC SCWE policy was updated on October 22, 2018, to explicitly state that violations of the policy may result in termination; dismissal of contracted third-party representatives; cancellation of contracts or service-level agreements; loss of access or other privileges; barring individuals from access to facilities, property or any system or network owned or controlled by the Company or its affiliates.

Agreed Upon Future Actions

1. Employee Concerns Program (ECP)

a. SNC-Fleet Wide (FW) will maintain an ECP for plants authorized to operate (fleet-wide ECP) (see Attachment) in substantially the same form as SNC Policy 701, “Employee Concerns Program,” revised 02/2017.

b. SNC-Vogtle 3 and 4 (V) will maintain the existing Vogtle 3 and 4 One Project ECP through commercial operation of each unit, or until such time that SNC determines transition to fleet-wide ECP is warranted.

2. Adverse Action Review Processes

a. SNC-FW/V ¹ will maintain a review process covering significant adverse actions (termination or suspension) taken by SNC with respect to SNC employees which requires consideration of protected activity, if any, prior to taking the significant adverse action.

¹ SNC-FW/V refers to both SNC's entire operating fleet and Vogtle Units 3 and 4 (see Attachment).

b. SNC-V will maintain a Discipline Review Process (DRP), applicable to SNC contractors or subcontractors (collectively “contractors”) at the Vogtle 3 and 4 Project site who are engaged in nuclear safety related work. Contractors must follow this process when termination is under consideration. This process also applies to SNC when (1) SNC requests removal of a contractor employee from the Vogtle 3 and 4 Project pursuant to contractual rights, and (2) when SNC releases from the Vogtle Project a supplemental worker assigned to support SNC. SNC may allow for exceptions to the DRP in the following instances: Terminations related to Part 26 FFD or Site Access failures; reduction in force (RIF)-related terminations; any action dictated by a collective bargaining (or similar) agreement applicable to contractor employees; violations of project work rules which do not depend on supervisory discretion; and end of assignment releases.

c. In the event the results of the review process in 2a. or 2b. reveal a SCWE policy violation that is substantiated by the SNC-FW/V Compliance and Concerns organization, corrective actions arising from that violation which may include discipline will be tracked and confirmed as completed by the SNC Compliance and Concerns organization.

3. Training

a. Within four (4) months of issuance of this confirmatory order, and until three (3) years thereafter, SNC-FW/V will require all SNC employees who are onboarding to complete SCWE training, including training on 10 CFR 50.7, 10 CFR 52.5, 10 CFR 50.5, and 10 CFR 52.4, definition of adverse action as it appears in the RIS 2005-18, and acknowledge the SNC SCWE policy within two (2) months of reporting to work.

b. Within four (4) months of issuance of this confirmatory order, SNC-V will provide SCWE training to management in the Vogtle 3 and 4 Project site. Lessons learned from these issues will be included in the training materials. The management covered by this item includes superintendents, managers and above (both contractors and SNC) up to and including the project executive vice president, who are in those roles as of the date that is three (3) months after the issuance of this confirmatory order. Such training shall be developed by a third party with experience in the area of employee protection and shall include training on 10 CFR 50.7, 10 CFR 52.5, 10 CFR 50.5, and 10 CFR 52.4, the definition of adverse action as it appears in the RIS 2005-18, and relevant case studies.

c. Beginning no later than two (2) months of issuance of this confirmatory order, and until three (3) years thereafter, SNC will require all new SNC-FW/V supervisors (a leader responsible for performance management and work direction for individual contributors) to receive SCWE training within six (6) months of their beginning work as a supervisor at SNC.

d. Within six (6) months of issuance of this confirmatory order, SNC-FW/V will review and make appropriate revisions to include SCWE with its construction and fleet General Employee Training (GET) program, or successor training, to ensure adequate coverage of 10 CFR 50.7, 10 CFR 52.5, 10 CFR 50.5, and 10 CFR 52.4. Lessons learned from these or similar issues will be identified and addressed in these training materials.

4. Other Activities

a. Within twelve (12) months from the issuance of this confirmatory order, SNC will deliver a presentation to provide SCWE insights that were derived from these events to present at an appropriate industry-sharing forum (e.g., the NRC's Regulatory Information Conference, the National Association of Employee Concerns Professionals). The presentation shall be made available for NRC review.

b. Within three (3) months of issuance of this confirmatory order, SNC-FW will revise the SCWE policy to address lessons learned from these issues.

c. Within three (3) months of issuance of this confirmatory order, a senior SNC executive will issue a written communication to all SNC-FW/V employees and to contractors at the Vogtle 3 and 4 project site reinforcing SNC's commitment to maintaining a SCWE and reaffirming SNC's insistence upon the protection of employees' rights and obligations to raise safety issues without fear of retaliation. SNC-FW/V will mandate that SNC first line leaders and construction management (superintendents and above) inform their reports of the contents of the communication.

d. Within six (6) months of issuance of this confirmatory order, SNC-V will obtain an independent SCWE survey of Vogtle 3 and 4 project site. SNC-V will obtain a second independent SCWE survey of Vogtle 3 and 4 no later than thirty (30) months after issuance of this confirmatory order. Results of each survey will be summarized into reports which will be made available for inspection by NRC. Recommendations (if any) from the survey reports will be entered into the Corrective Action Program or Employee Concerns Program, as appropriate, depending on the nature of the recommendation, for disposition.

General Provisions

1. The proposed settlement does not affect other potential escalated enforcement actions, including ongoing investigations by the NRC's Office of Investigations. However, as part of its deliberations and consistent with the philosophy of the Enforcement Policy, Section 3.3, “Violations Identified Because of Previous Enforcement Action,” the NRC will consider enforcement discretion for violations of the NRC Employee Protection Rules (10 CFR 50.7, 10 CFR 52.5) that occur prior to or during implementation of the corrective actions aimed at correcting that specific condition as specified in the Confirmatory Order.

2. The NRC and SNC agree to disagree as to whether the violations occurred.

3. The NRC will not cite a violation or issue a civil penalty.

4. This order will be placed on the Vogtle 3 & 4 dockets only.

5. This order will not count as escalated enforcement in the civil penalty assessment process for future cases unless they are violations of the NRC Employee Protection Rules.

6. In the event of the transfer of the operating license of Southern Nuclear Operating Company to another entity, the terms and conditions set forth hereunder shall continue to apply to Southern Nuclear Operating Company and accordingly survive any transfer of ownership or license.

On November 20, 2019, SNC consented to issuing this Confirmatory Order with the commitments, as described in Section V below. SNC further agreed that this Confirmatory Order is to be effective upon issuance, the agreement memorialized in this Confirmatory Order settles the matter between the parties, and that it has waived its right to a hearing.

IV

I find that SNC's completed corrective actions, as described in Section III above, combined with the commitments as set forth in Section V are acceptable and necessary, and conclude that with these commitments the public health and safety are reasonably assured. In view of the foregoing, I have determined that public health and safety require that SNC commitments be confirmed by this Order. Based on the above and SNC's consent, this Confirmatory Order is effective upon issuance.

V

Accordingly, pursuant to Sections 103, 161b, 161i, 161o, 182 and 186 of the Atomic Energy Act of 1954, as amended, and the Commission's regulations in 10 CFR 2.202 and 10 CFR part 52, it is hereby ordered, effective upon issuance, that License Nos. NPF-2, NPF-8, DPR-57, NPF-5, NPF-68, NPF-81, NPF-91, and NPF-92 are modified as follows:

1. Employee Concerns Program (ECP)

a. SNC-FW will maintain a fleetwide ECP for plants authorized to operate in substantially the same form as SNC Policy 701, “Employee Concerns Program,” revised 02/2017.

b. SNC-V will maintain the existing Vogtle 3 and 4 One Project ECP through commercial operation of each unit, or until such time that SNC determines transition to fleet-wide ECP is warranted.

2. Adverse Action Review Processes

a. SNC-FW/V will maintain a review process covering significant adverse actions (termination or suspension) taken by SNC with respect to SNC employees which requires consideration of protected activity, if any, prior to taking the significant adverse action.

b. SNC-V will maintain a Discipline Review Process (DRP), applicable to SNC contractors or subcontractors (collectively “contractors”) at the Vogtle 3 and 4 Project site who are engaged in nuclear safety related work. Contractors must follow this process when termination is under consideration. This process also applies to SNC when (1) SNC requests removal of a contractor employee from the Vogtle 3 and 4 Project pursuant to contractual rights, and (2) when SNC releases from the Vogtle Project a supplemental worker assigned to support SNC. SNC may allow for exceptions to the DRP in the following instances: Terminations related to Part 26 FFD or Site Access failures; reduction in force (RIF)-related terminations; any action dictated by a collective bargaining (or similar) agreement applicable to contractor employees; violations of project work rules which do not depend on supervisory discretion; and end of assignment releases.

c. In the event the results of the review process in 2a. or 2b. reveal a SCWE policy violation that is substantiated by the SNC-FW/V Compliance and Concerns organization, corrective actions arising from that violation, which may include discipline, will be tracked and confirmed as completed by the SNC Compliance and Concerns organization.

3. Training

a. Within four (4) months of issuance of this confirmatory order, and until three (3) years thereafter, SNC-FW/V will require all SNC employees who are onboarding to complete SCWE training, including training on 10 CFR 50.7, 10 CFR 52.5, 10 CFR 50.5, and 10 CFR 52.4, definition of adverse action as it appears in RIS 2005-18, and acknowledge the SNC SCWE policy within two (2) months of reporting to work.

b. Within four (4) months of issuance of this confirmatory order, SNC-V will provide SCWE training to management in the Vogtle 3 and 4 Project site. Lessons learned from these issues will be included in the training materials. The management covered by this item includes both contractors' and SNC superintendents and managers, up to and including the project executive vice president, who are in those roles as of the date that is three (3) months after the issuance of this confirmatory order. Such training shall be developed by a third party with experience in the area of employee protection and shall include training on 10 CFR 50.7, 10 CFR 52.5, 10 CFR 50.5, and 10 CFR 52.4, the definition of adverse action as it appears in RIS 2005-18, and relevant case studies.

c. Beginning no later than two (2) months after issuance of this confirmatory order, and until three (3) years thereafter, SNC will require all new SNC-FW/V supervisors (a leader responsible for performance management and work direction for individual contributors) to receive SCWE training within six (6) months of their beginning work as a supervisor at SNC.

d. Within six (6) months of issuance of this confirmatory order, SNC-FW/V will review and make appropriate revisions to include SCWE with General Employee Training (GET) program, or successor training, to ensure adequate coverage of 10 CFR 50.7, 10 CFR 52.5, 10 CFR 50.5, and 10 CFR 52.4. Lessons learned from these or similar issues will be identified and addressed in these training materials.

4. Other Activities

a. Within twelve (12) months of the issuance of this order, SNC will deliver a presentation to provide SCWE insights that were derived from these events to present at an appropriate industry-sharing forum (e.g., the NRC's Regulatory Information Conference, the National Association of Employee Concerns Professionals). The presentation shall be made available for NRC review.

b. Within three (3) months of issuance of this order, SNC-FW will revise the SNC SCWE policy to address lessons learned from these issues.

c. Within three (3) months of issuance of this order, a senior SNC executive will issue a written communication to all SNC-FW/V employees and to contractors at the Vogtle 3 and 4 project site reinforcing SNC's commitment to maintaining a SCWE and reaffirming SNC's insistence upon the protection of employees' rights and obligations to raise safety issues without fear of retaliation. SNC-FW/V will mandate that SNC first line leaders and construction management (superintendents and above) inform their reports of the contents of the communication.

d. Within six (6) months of issuance of this order, SNC-V will obtain a third-party, independent SCWE survey of Vogtle 3 and 4 project site. SNC-V will obtain a second third-party, independent SCWE survey of Vogtle 3 and 4 no later than thirty (30) months after issuance of this confirmatory order. Results of each survey will be summarized into reports which will be made available for inspection by NRC. Recommendations (if any) from the survey reports will be entered into the Corrective Action Program or Employee Concerns Program, as appropriate, depending on the nature of the recommendation, for disposition.

This agreement is binding upon successors and assigns of SNC.

The Director, Office of Enforcement may, in writing, relax or rescind any of the above conditions upon demonstration by SNC or its successors of good cause.

VI

In accordance with 10 CFR 2.202 and 10 CFR 2.309, any person adversely affected by this Confirmatory Order, other than SNC, may request a hearing within thirty (30) calendar days of the date of issuance of this Confirmatory Order. Where good cause is shown, consideration will be given to extending the time to request a hearing. A request for extension of time must be made in writing to the Director, Office of Enforcement, U.S. Nuclear Regulatory Commission, Washington, DC 20555, and include a statement of good cause for the extension.

All documents filed in NRC adjudicatory proceedings, including a request for hearing, a petition for leave to intervene, any motion or other document filed in the proceeding prior to the submission of a request for hearing or petition to intervene (hereinafter “petition”), and documents filed by interested governmental entities participating under 10 CFR 2.315(c), must be filed in accordance with the NRC's E-Filing rule (72 FR 49139; August 28, 2007, as amended at 77 FR 46562, August 3, 2012). The E-Filing process requires participants to submit and serve all adjudicatory documents over the internet, or in some cases to mail copies on electronic storage media. Participants may not submit paper copies of their filings unless they seek an exemption in accordance with the procedures described below.

To comply with the procedural requirements of E-Filing, at least 10 days prior to the filing deadline, the participant should contact the Office of the Secretary by email at hearing.docket@nrc.gov, or by telephone at 301-415-1677, to (1) request a digital identification (ID) certificate, which allows the participant (or its counsel or representative) to digitally sign submissions and access the E-Filing system for any proceeding in which it is participating; and (2) advise the Secretary that the participant will be submitting a petition or other adjudicatory document (even in instances in which the participant, or its counsel or representative, already holds an NRC-issued digital ID certificate). Based upon this information, the Secretary will establish an electronic docket for the hearing in this proceeding if the Secretary has not already established an electronic docket.

Information about applying for a digital ID certificate is available on the NRC's public website at https://www.nrc.gov/site-help/e-submittals/getting-started.html. Once a participant has obtained a digital ID certificate and a docket has been created, the participant can then submit adjudicatory documents. Submissions must be in Portable Document Format (PDF). Additional guidance on PDF submissions is available on the NRC's public website at https://www.nrc.gov/site-help/electronic-sub-ref-mat.html. A filing is considered complete at the time the document is submitted through the NRC's E-Filing system. To be timely, an electronic filing must be submitted to the E-Filing system no later than 11:59 p.m. Eastern Time on the due date. Upon receipt of a transmission, the E-Filing system time-stamps the document and sends the submitter an email notice confirming receipt of the document. The E-Filing system also distributes an email notice that provides access to the document to the NRC's Office of the General Counsel and any others who have advised the Office of the Secretary that they wish to participate in the proceeding, so that the filer need not serve the document on those participants separately. Therefore, applicants and other participants (or their counsel or representative) must apply for and receive a digital ID certificate before adjudicatory documents are filed so that they can obtain access to the documents via the E-Filing system.

A person filing electronically using the NRC's adjudicatory E-Filing system may seek assistance by contacting the NRC's Electronic Filing Help Desk through the “Contact Us” link located on the NRC's Public website at https://www.nrc.gov/site-help/e-submittals.html, by email to MSHD.Resource@nrc.gov, or by a toll-free call at 1-866-672-7640. The NRC Electronic Filing Help Desk is available between 9 a.m. and 6 p.m., Eastern Time, Monday through Friday, excluding government holidays.

Participants who believe that they have good cause for not submitting documents electronically must file an exemption request, in accordance with 10 CFR 2.302(g), with their initial paper filing stating why there is good cause for not filing electronically and requesting authorization to continue to submit documents in paper format. Such filings must be submitted by: (1) First class mail addressed to the Office of the Secretary of the Commission, U.S. Nuclear Regulatory Commission, Washington, DC 20555-0001, Attention: Rulemaking and Adjudications Staff; or (2) courier, express mail, or expedited delivery service to the Office of the Secretary, 11555 Rockville Pike, Rockville, Maryland 20852, Attention: Rulemaking and Adjudications Staff. Participants filing adjudicatory documents in this manner are responsible for serving the document on all other participants. Filing is considered complete by first-class mail as of the time of deposit in the mail, or by courier, express mail, or expedited delivery service upon depositing the document with the provider of the service. A presiding officer, having granted an exemption request from using E-Filing, may require a participant or party to use E-Filing if the presiding officer subsequently determines that the reason for granting the exemption from use of E-Filing no longer exists.

Documents submitted in adjudicatory proceedings will appear in the NRC's electronic hearing docket which is available to the public at https://adams.nrc.gov/ehd, unless excluded pursuant to an Order of the Commission or the presiding officer. If you do not have an NRC-issued digital ID certificate as described above, click “Cancel” when the link requests certificates and you will be automatically directed to the NRC's electronic hearing dockets where you will be able to access any publicly available documents in a particular hearing docket. Participants are requested not to include personal privacy information, such as social security numbers, home addresses, or personal phone numbers in their filings, unless an NRC regulation or other law requires submission of such information. For example, in some instances, individuals provide home addresses in order to demonstrate proximity to a facility or site. With respect to copyrighted works, except for limited excerpts that serve the purpose of the adjudicatory filings and would constitute a Fair Use application, participants are requested not to include copyrighted materials in their submission.

The Commission will issue a notice or order granting or denying a hearing request or intervention petition, designating the issues for any hearing that will be held and designating the Presiding Officer. A notice granting a hearing will be published in the Federal Register and served on the parties to the hearing.

If a person (other than SNC) requests a hearing, that person shall set forth with particularity the manner in which his interest is adversely affected by this Confirmatory Order and shall address the criteria set forth in 10 CFR 2.309(d) and (f).

If a hearing is requested by a person whose interest is adversely affected, the Commission will issue an order designating the time and place of any hearings. If a hearing is held, the issue to be considered at such hearing shall be whether this Confirmatory Order should be sustained.

In the absence of any request for hearing, or written approval of an extension of time in which to request a hearing, the provisions specified in Section V above shall be final 30 days from the date of this Confirmatory Order without further order or proceedings. If an extension of time for requesting a hearing has been approved, the provisions specified in Section V shall be final when the extension expires if a hearing request has not been received.

For the Nuclear Regulatory Commission

George A. Wilson,

Director, Office of Enforcement

Dated this 20th day of November 2019

Attachment: As stated.

All Facilities Owned and Operated by Southern Nuclear Operating Company

All items in this order that apply to Vogtle Units 3 and 4, or are designated with a “V” apply to the following facilities:

Vogtle Electric Generating Plant, Units 3 and 4

Docket Nos. 05200025, 05200026

License Nos. NPF-91, NPF-92

All items in this order that apply to SNC's entire fleet, or are designated as “fleet-wide” or with an “FW” apply to the following facilities:

Vogtle Electric Generating Plant, Units 1 and 2

Docket Nos. 05000424, 05000425

License Nos. NPF-68, NPF-81

Joseph M. Farley Nuclear Plant, Units 1 and 2

Docket Nos. 05000348, 05000364

License Nos. NPF-2, NPF-8

Edwin I. Hatch Nuclear Plant, Units 1 and 2

Docket Nos. 05000321, 05000366

DPR-57, NPF-5

[FR Doc. 2019-25709 Filed 11-26-19; 8:45 am]

BILLING CODE 7590-01-P